SMALL BUSINESS ADMINISTRATION

Notice Inviting Applications for Funding Under the Business-to-Business Learning, Investment, Networking and Collaboration (BusinessLINC) Program

AGENCY: U.S. Small Business Administration.

ACTION: Notice of Invitation for Applications for Awards for FY 2001.

SUMMARY: The Administrator of the U.S. Small Business Administration (SBA) invites applications for awards for fiscal year 2001 under a grant competition supported by § 102 of Public Law No. 106-554, BusinessLINC Grants and Cooperative Agreements (“BusinessLINC”). The statute authorizes the Administrator to enter into cooperative agreements with qualified coalitions of public and private entities to promote the growth of small businesses by matching large concerns with small concerns and creating business-to-business partnering and mentoring relationships. These BusinessLINC cooperative agreements would provide funding to qualified coalitions to: (1) Expand business-to-business relationships between large and small businesses, and (2) provide businesses with online information and a database of companies that are interested in mentor-protégé programs or community-based, statewide, or local business development programs. Coalitions may consist of public entities, private entities, or a combination of public and private entities. To qualify, the coalition must provide an amount, either in-kind or in cash, equal to the grant amount.

Subject to funding availability, SBA intends to award up to $7.0 million in appropriated funds under this notice and expects to issue up to 50 awards. SBA reserves the right to fund, in whole or in part, any, all or none of the applications submitted in response to this notice. Award amounts may vary, depending upon availability of funds (and performance for option years); however, award amounts will be at least $25,000 and no single awardee may receive more than $250,000 in a single fiscal year.

The selection criteria to be used for this competition will be provided in the application package.

DATES: The closing date for applications is March 20, 2001, 4 p.m., Eastern Standard Time (EST).

ADDRESSES: To obtain a copy of the complete application package, call Mina Bookhard at (202) 205-7080, or see the BusinessLINC Program Announcement under the “Go To New Stuff” icon on SBA's website at www.sba.gov.

FOR APPLICATIONS AND FURTHER INFORMATION: Questions concerning the technical aspects of this notice should be directed to Rick Mayronne at (202) 205-7736. Questions about budget or funding matters should be directed to Mina Bookhard at (202) 205-7080.

Program Authority: 15 U.S.C. § 637(n).

Dated: January 12, 2001.
Aida Alvarez,
Administrator.

[FR Doc. 01-1709 Filed 1-19-01; 8:45 am]

BILLING CODE 8025-01-P